DEPARTMENT OF THE INTERIOR

Bureau of Land Management

[WO-350-1430-PF-01-24 1A]

Extension of Approved Information Collection, OMB Control Number 1004-0190

AGENCY: Bureau of Land Management, Interior.

ACTION: Notice and request for comments.

SUMMARY: In accordance with the Paperwork Reduction Act of 1995, the Bureau of Land Management (BLM) is requesting the Office of Management and Budget (OMB) to extend and existing approval to collect certain information from Indians eligible to apply for an allotment with the BLM office that has jurisdiction over the lands covered by the application. BLM uses Form 2530-3, Indian Allotment Application, to collect this information to determine if the Indian applicant qualifies for an Indian allotment on public lands and public domain lands within national forests. The regulations at 43 CFR 2530 authorize BLM to issue an Indian allotment to eligible Indians who apply and qualify.

DATES: You must submit your comments to BLM at the address below on or before August 24, 2004. BLM will not necessarily consider any comments received after the above date.

ADDRESSES: You may mail comments to: Bureau of Land Management, (WO-630), Eastern States Office, 7450 Boston Blvd., Springfield, Virginia 22153.

You may send comments via Internet to: WOComment@blm.gov. Please include “ATTN: 1004-0190” and your name and return address with your comments.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Alzata L. Ransom, Realty Use Group, on (202) 452-7772 (Commercial or FTS). Persons who use a telecommunication device for the deaf (TDD) may call the Federal Information Relay Service (FIRS) on 1-800-877-8330, 24 hours a day, seven days a week, to contact Ms. Ransom.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

Section 4 of the Indian General Allotment Act of February 8, 1887 (43 U.S.C. 1740) provides that, if you are an eligible Indian you may apply for an allotment. To establish you are eligible, you must furnish documentation from the Bureau of Indian Affairs (BIA) showing you are an Indian who meets the requirements of the Act. If you are eligible, your minor child also qualifies to file for an allotment under the Act. You must apply to the BLM office having jurisdiction over the lands covered by your application.

BLM uses Form 2530-3 to collect the following information:

(1) The name and address of the applicant; if a minor child, the name, age of child, and the applicant's relationship to the child;

(2) The name of the Indian tribe to which the applicant belongs or is eligible to belong;

(3) A Certificate of Indian Blood from the BIA and the name of the recognized Indian tribe to which you claim membership of be eligible for membership to a recognized Indian tribe;

(4) A legal land description of the lands applied for (by township, range, meridian, section, subdivision, and State);

(5) A plan of development that describes the proposed agricultural or grazing land use and a description of the improvements that the applicant plans to place on the lands;

(6) Any allotments that the applicant received previously from BLM; and

(7) The applicant must certify their knowledge of the lands, is the person named in the BIA Certificate of Indian Blood, and makes true, accurate, and good faith statements on the application.

BLM uses the information to determine whether or not to issue an Indian allotment. Without this information, BLM would not be able to properly administer Indian allotments on public lands and public domain lands within national forests.

Based upon BLM experience and recent tabulations of activity, we estimate it takes 2 hours to complete. The estimated number of responses per year is 6 and the total annual information burden is 12 hours.

Any member of the public may request and obtain, without charge, a copy of Form 2530-3 by contacting the person identified under FOR FURTHER INFORMATION CONTACT.

BLM will summarize all responses to this notice and include them in the request for OMB approval. All comments will become a matter of public record.

Dated: June 22, 2004.
Michael H. Schwartz,
Bureau of Land Management, Information Collection Clearance Officer.

[FR Doc. 04-14443 Filed 6-24-04; 8:45 am]

BILLING CODE 4310-84-M